DEPARTMENT OF LABOR

Employment and Training Administration

[TA-W-57,044]

Hewlett-Packard Company, Intellectual Programming Components Division; Corvallis, OR; Notice of Termination of Investigation

Pursuant to Section 221 of the Trade Act of 1974, an investigation was initiated on April 25, 2005 in response to a worker petition which was filed by the State Trade Coordinator on behalf of workers at Hewlett-Packard Company, Intellectual Programming Components Division, Corvallis, Oregon.

The petitioner has requested that the petition be withdrawn. Consequently, the investigation has been terminated.

Signed in Washington, DC this 27th day of April, 2005.
Richard Church,
Certifying Officer, Division of Trade Adjustment Assistance.

[FR Doc. E5-2416 Filed 5-13-05; 8:45 am]

BILLING CODE 4510-30-P